DEPARTMENT OF HEALTH AND HUMAN SERVICES

Food and Drug Administration

[Docket No. 2007D-0309]

Draft Guidance for Industry and Food and Drug Administration Staff; Class II Special Controls Guidance Document: Electrocardiograph Electrodes; Availability; Correction

AGENCY: Food and Drug Administration, HHS.

ACTION: Notice; correction.

SUMMARY: The Food and Drug Administration (FDA) is correcting a notice that appeared in the Federal Register of October 4, 2007 (72 FR 56771). The document announced the availability of a draft guidance entitled “Class II Special Controls Guidance Document: Electrocardiograph Electrodes.” The document was published with an incorrect docket number. This document corrects that error.

FOR FURTHER INFORMATION CONTACT: Joyce A. Strong, Office of Policy (HF-27), Food and Drug Administration, 5600 Fishers Lane, Rockville, MD 20857, 301-827-7010.

SUPPLEMENTARY INFORMATION: In FR Doc. E7-19578, appearing on page 56771 in the Federal Register of Thursday, October 4, 2007, the following correction is made:

1. On page 56771, in the third column, in the heading of the document, “[Docket No. 2007N-0309]” is corrected to read “[Docket No. 2007D-0309]”.

Dated: October 5, 2007.
Jeffrey Shuren,
Assistant Commissioner for Policy.

[FR Doc. E7-20183 Filed 10-11-07; 8:45 am]

BILLING CODE 4160-01-S